DEPARTMENT OF COMMERCE

Patent and Trademark Office

Patent Customer Transactional Survey

ACTION: Proposed collection; comment request.

SUMMARY: The United States Patent and Trademark Office (USPTO), as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 9, 2004.

ADDRESSES: Direct all written comments to Susan K. Brown, Records Officer, Office of the Chief Information Officer, Office of Data Architecture and Services, Data Administration Division, 703-308-7400, U.S. Patent and Trademark Office, P.O. Box 1450, Alexandria, VA 22313, Attn: CPK 3 Suite 310; by e-mail at susan.brown@uspto.gov; or by facsimile at 703-308-7407.

FOR FURTHER INFORMATION CONTACT: Requests for additional information should be directed to the attention of Martin Rater, Statistician, Office of Corporate Planning, U.S. Patent and Trademark Office, P.O. Box 1450, Alexandria, VA 22313-1450; by telephone 703-305-4220; by facsimile at 703-305-8138; or by e-mail at martin.rater@uspto.gov.

SUPPLEMENTARY INFORMATION:

I. Abstract

For over the past 10 years, the USPTO has used surveys to obtain customer feedback regarding the products, services, and related service standards of the USPTO. The USPTO uses the results from these surveys to measure how well the agency is meeting established customer service standards, to identify any disjoints between customer expectations and USPTO performance, and to develop customer satisfaction improvement strategies. Typically, these surveys ask customers to express their satisfaction with the USPTO's products and services based upon their interactions with the agency as a whole over a 12 month period.

To obtain further data concerning customer satisfaction with the USPTO's customer services, service standards, and the agency's performance, the USPTO has drafted the proposed Patent Customer Transactional Survey. This proposed survey allows the USPTO to further explore customer satisfaction with the legal positions of the examiners, the search functions of the various Automated Information Systems, and problem resolution at the USPTO. From past surveys, the USPTO has noted that these areas are key drivers of overall customer satisfaction. Additionally, the USPTO has found that approximately 70% of its customers prosecute more than 15 patent applications per year. With this volume of applications per customer, it is not practical for the USPTO to survey customers about anything beyond general satisfaction with a particular product or service. The Patent Customer Transactional Survey will allow the USPTO to gather more detailed information about these key drivers of customer satisfaction. This in turn enables the USPTO to develop efficient and cost-effective customer satisfaction improvement strategies.

The Patent Customer Transactional Survey is a mail survey, although respondents also have the option to complete the survey electronically. A survey packet, containing a one-page questionnaire (with a cover letter prepared by the Commissioner of Patents printed on the reverse side),and a postage-paid, pre-addressed return envelope will be mailed to respondents with the patent allowance. Instructions for completing the survey electronically will also be included. The survey packets will be mailed to randomly selected customers who were granted a patent from one of the eight technology centers during a six week period to commence with the start of the survey enumeration period.

The USPTO does not plan to pre-notify respondents about this survey or follow-up with those respondents who do not respond to this survey. This is a voluntary survey and all responses will remain confidential. The data that is collected will not be linked to the respondent and contact information that is used for sampling purposes will be maintained in a separate file from the quantitative data. Respondents are not required to provide any identifying information such as their name, address, or Social Security Number. In order to access and complete the online survey, respondents will need to use the username, password, and activation code provided by the USPTO.

These surveys do not have USPTO form numbers associated with them and once they are approved, they will carry the OMB Control Number and the expiration date.

II. Method of Collection

By mail or electronically over the Internet when respondents elect the online option to complete the survey.

III. Data

OMB Number: 0651-00XX.

Form Number(s): N/A.

Type of Review: New information collection.

Affected Public: Individuals or households; business or other for profit; not-for-profit institutions; Federal government; and State, local or tribal government.

Estimated Number of Respondents: 2,400 total responses per year. Of this total, the USPTO estimates that 1,680 surveys will be mailed and that 720 surveys will be completed using the online option.

Estimated Time Per Response: The USPTO estimates that it will take approximately five minutes (0.08 hours) to complete both the paper and online versions of this survey.

Estimated Total Annual Respondent Burden Hours: 192 hours per year.

Estimated Total Annual Respondent Cost Burden: $54,912. The USPTO believes that the patent attorneys of record will complete these surveys since they are being mailed to respondents with the patent allowance. Using a typical professional hourly rate of $286 for associate attorneys in private firms, the USPTO estimates that the salary costs for the respondents completing these surveys will be $54,912 per year.

Item | Estimated time for response | Estimated annual responses | Estimated annual burden hours
Patent Customer Transactional Survey | 5 minutes | 1,680 | 134
Electronic Patent Customer Transactional Survey | 5 minutes | 720 | 58
Totals |  | 2,400 | 192

Estimated Total Annual Non-Hour Respondent Cost Burden: $0. There are no capital start-up, maintenance, or recordkeeping costs or filing fees associated with this information collection. The USPTO covers the costs of all survey materials and provides postage-paid, pre-addressed return envelopes for the completed mail surveys. Therefore, there are no postage costs associated with this information collection.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they will also become a matter of public record.

Dated: May 4, 2004.
Susan K. Brown,
Records Officer, United States Patent and Trademark Office, Office of the Chief Information Officer, Office of Data Architecture and Services, Data Administration Division.

[FR Doc. 04-10526 Filed 5-7-04; 8:45 am]

BILLING CODE 3510-16-P